DEPARTMENT OF HEALTH AND HUMAN SERVICES

Food and Drug Administration

Support for Small Scientific Conference Grants; Availability of Grants; Request for Applications

AGENCY: Food and Drug Administration, HHS.

ACTION: Notice.

SUMMARY: The Food and Drug Administration (FDA) is announcing the following changes to its support of Small Scientific Conferences Grant Program. The previous announcement of this program, published in the Federal Register of April 15, 1987 (52 FR 12257), is superseded by this announcement. This announcement will also provide new policies that apply to the FDA Scientific Conferences Grant Program. FDA views the partial support of scientific conferences as an ongoing program and may award a limited number of grants each fiscal year ranging from $1,000 to $25,000 in direct costs only per conference. This announcement is intended to be a “Standing Program Announcement” and will be modified in the event of further required changes to the program.

DATES: Applications will be received and reviewed quarterly during each fiscal year as follows (see table 1):

Table 1.
Receipt Date | Review Date | Earliest Beginning Conference Date
October 15 | November 15 | December 15
January 15 | February 15 | March 15
April 15 | May 15 | June 15
July 15 | August 15 | September 15

If the receipt date falls on a weekend or holiday it will be extended to the following workday. Applications received after the quarterly deadline date will be held for the next review cycle or returned to the applicant if time is not sufficient for FDA to conduct a review prior to the scheduled date of the proposed conference.

ADDRESSES: Applications are available from and should be submitted to: Cynthia M. Polit, Grants Management Office (HFA-520), 5600 Fishers Lane, rm. 2129, Rockville, MD 20857, 301-827-7180, e-mail: cpolit@oc.fda.gov. Applications hand-carried or commercially delivered should be addressed to 5630 Fishers Lane, rm. 2129, Rockville, MD 20852. FDA is unable to receive applications via the Internet. Do not send applications to the Center for Scientific Research, National Institutes of Health (NIH). Any application sent to NIH and not received in time for orderly processing will be deemed nonresponsive and returned to the applicant. Application forms (PHS 398) may be downloaded from the NIH Internet site at http://grants.nih.gov/grants/forms.htm.

FOR FURTHER INFORMATION CONTACT: For information regarding the administrative and financial management aspects of this program: Cynthia Polit (see ADDRESSES).

SUPPLEMENTARY INFORMATION:

I. Introduction

FDA's authority to enter into grants and cooperative agreements is detailed under title XVII of the Public Health Service Act (42 U.S.C. 300u-1) or the Radiation Control for Health and Safety Act of 1968 (Public Law 90-602) (42 U.S.C. 263b-n). Applications submitted under this program may be subject to the requirements of Executive Order 12372. FDA's conference grant program is described in the Catalog of Federal Domestic Assistance, No. 93.103.

FDA strongly encourages all award recipients to provide a smoke-free workplace and to discourage the use of all tobacco products. This is consistent with the FDA mission to protect and advance the physical and mental health of the American people.

FDA urges applicants to submit work plans that address specific objectives of “Healthy People 2010,” a national activity to reduce morbidity and mortality and to improve the quality of life. Potential applicants may obtain a hard copy of “Healthy People 2010” objectives, vols. I and II, conference edition (B0074), for $22 per set, by writing to the Office of Disease Prevention and Health Promotion (ODPHP) Communication Support Center, P.O. Box 37366, Washington, DC 20012-7366. Each of the 28 chapters of “Healthy People 2010” is priced at $2 per copy. Telephone orders can be placed to the ODPHP Center on 301-468-5690. The ODPHP Center also sells the complete conference edition in CD-ROM format (B0071) for $5. This publication is also available on the Internet at www.health.gov/healthypeople/. Web site viewers should proceed to “Publications.”

II. Background

FDA recognizes the value of partially supporting scientific meetings and conferences designed to coordinate, exchange, and disseminate information when the objectives are clearly within the scope of the agency's mission. FDA's policy is to participate with other organizations to support meetings where practicable rather than provide sole support. In view of the diversity of interests among the various FDA centers/offices, and in order to provide maximum flexibility, FDA will not set rigid requirements concerning the type of scientific meetings to be supported.

III. Reporting Requirements

A final financial status report (FSR, SF269) and a final progress report or conference proceedings are required. An original and two copies of these reports must be submitted to the Grants Management Office (see ADDRESSES) within 90 days after the conference date. Copies of conference proceedings resulting from the meeting may be substituted for the final progress report. Failure to provide these reports in a timely manner may jeopardize future grant support or delay an award.

IV. Mechanism of Support

A. Award Instrument

Support for this program will be in the form of a grant. These grants will be subject to all policies and requirements that govern the support for small scientific conference grant programs of FDA, including the provisions of 42 CFR part 52 and 45 CFR parts 74 and 92. The regulations issued under Executive Order 12372 may also apply to this program and are implemented through the Department of Health and Human Services (DHHS) regulations at 45 CFR part 100. Executive Order 12372 sets up a system for State and local government review of applications for Federal financial assistance. Applicants (other than federally recognized Indian tribal governments) should contact the State's single point of contact (SPOC) as early as possible to alert them to the prospective application(s) and to receive any necessary instructions on the State's review processes. A current listing of SPOCs can be accessed at http://www.whitehouse.gov/omb/grants/spoc.html. The SPOC should send any State review process recommendations to FDA's administrative contact (see ADDRESSES). The due date for the State process recommendation is no later than 60 days after the deadline date for the receipt of applications. FDA does not guarantee to accommodate or explain SPOC comments that are received after the 60-day cutoff.

B. Eligibility

Conference grant support is available to any public or private nonprofit entity including State and local units of government, scientific and professional societies, and for-profit entities. Faith-based organizations are eligible to apply for these conference grants. For-profit entities must commit to excluding fees or profit from the conference in their request for support.

In the case of an international conference held in the United States or Canada, the U.S. component of an established international scientific professional society is the eligible applicant. In exceptional cases, where there is no U.S. component, a grant to support a specific segment of an international conference may be awarded directly to a foreign institution or international organization upon the approval of the DHHS agency head or his or her designee.

An individual is not eligible to receive grant funds in support of a conference. Organizations described in section 501(c)4 of the Internal Revenue Code of 1968 that engage in lobbying are not eligible to receive grant awards.

C. Length of Support

The length of support will be for up to 1 year from date of award.

V. Review Procedure and Criteria

All applications submitted in response to this announcement will be evaluated upon receipt for responsiveness to this request for application (RFA). Responsiveness is defined as submission of a complete application with original signatures within the required submission dates as listed in table 1 of this document. Applications found to be nonresponsive will be returned to the applicant without further consideration.

An application will be considered nonresponsive if any of the following criteria are not met: (1) If the applicant organization is ineligible, (2) if it is received in the grants management office after the specified receipt date, (3) if it is incomplete, (4) if it is illegible, (5) if it is not responsive to the criteria list below, (6) if the material presented is insufficient to permit an adequate review, and/or (7) if it exceeds the recommended threshold amount reflected in the RFA.

Responsive applications will be reviewed and evaluated for their scientific and technical merit by an ad hoc review panel composed of experts in the field using the following criteria:

1. The content/subject matter and how current and appropriate it is for FDA's mission;

2. The conference plan and how thorough, reasonable, and appropriate it is for the intended audience;

3. The experience, training, and competence of the principal investigator/director and support staff;

4. The adequacy of the facilities;

5. The reasonableness of the proposed budget given the total conference plan, program, speakers, travel, and facilities;

6. Previous experience of the organization/principal investigator.

VI. Submission Requirements

An original and two copies of a complete grant application Form PHS 398 (Rev. 4/98) or an original and two copies of PHS 5161-1 (Rev.7/00) for State and local governments should be delivered to the address listed previously (see ADDRESSES). State and local governments may choose to use PHS 398 application form in place of PHS 5161-1. The outside of the application package should clearly state “Request for Conference Grant” and must be received by the appropriate submission date listed in table 1 of this document.

VII. Letter of Intent

This is not mandatory. However, you may submit a letter of intent to the contact (see ADDRESSES) at least 30 days prior to the application receipt date. Potential applicants are also encouraged to talk to the contact to determine if the proposed scientific conference is clearly consistent with FDA's interest, mission, and priorities. Potential applicants may fax letters of intent to 301-827-7101.

VIII. Method of Application

A. Submission Instructions

Applications will be accepted during normal business hours, from 8 a.m. to 4:30 p.m., Monday through Friday, on or before the established receipt date. Applications will be considered on time if sent or mailed on or before the appropriate receipt date as evidenced by a legible U.S. Postal Service dated postmark or a legible date receipt from a commercial carrier. Private metered postmarks will not be acceptable as proof of timely mailing. Applications received after the appropriate quarterly deadline date will be held for the next review cycle or returned to the applicant if time is not sufficient for FDA to conduct a review prior to the scheduled date of the proposed conference.

B. Format of Application

Applications must include the following:

1. Title that has the term scientific “conference,” “council,” “workshop,” or other similar description to assist in the identification of the request;

2. Location of the conference;

3. Expected number of registrants and type of audience expected, speaker's credentials;

4. Dates of conference (inclusive);

5. Conference format and projected agenda, including list of principal areas or topics to be addressed;

6. Physical facilities required for the conduct of the meeting (e.g., simultaneous translation facilities);

7. Justification of the conference, including the problems it intends to clarify and any developments it may stimulate;

8. Brief biographical sketches of individuals responsible for planning the conference and indication of adequate support staff;

9. Information about all related conferences held on this subject during the last 3 years (if known);

10. Details of proposed per diem/subsistence rates, transportation, printing, supplies, and facility rental costs;

11. The budget for the entire conference; budget items requested from FDA; budget items supported by other sources; and a list, including amounts, of all other anticipated support; and

12. The necessary checklist and assurance pages provided in each application package.

Allowable costs consist of: (1) Salaries in proportion to the time or effort spent directly on the conference, (2) rental of necessary equipment, (3) travel and per diem, (4) supplies needed to conduct the meeting, (5) conference services, (6) publication costs, (7) registration fees, (8) working meals where business is transacted, and (9) speaker's fees.

Nonallowable costs include but are not limited to: (1) Purchase of equipment; (2) transportation costs exceeding coach class fares; (3) visas; (4) passports; (5) entertainment; (6) tips; (7) bar charges; (8) personal telephone calls; (9) laundry charges; (10) travel or expenses other than local mileage for local participants; (11) organization dues; (12) honoraria or other payments for the purpose of conferring distinction or communicating respect, esteem, or admiration; (13) patient care; (14) alterations or renovations; and (15) indirect costs.

Grant funds may not be used to provide general support for international scientific conferences held outside the United States or Canada. Grant funds may be awarded to a U.S. component of an international organization to provide limited support for specified segments of an international conference held outside the United States or Canada if the conference is compatible with FDA's mission. An example of such support would be a selected symposium, panel, or workshop within the conference, including the cost of planning and the cost of travel for U.S. participants for the specified segment of the scientific conference. Any Public Health Service (PHS) foreign travel restrictions that are in effect at the time of the award must be followed, including but not limited to:

1. Limitations or restrictions on countries to which travel will be supported; or

2. Budgetary or other limitations on availability of funds for foreign travel.

The collection of information requested in PHS Form 398 and its instructions have been submitted by PHS to the Office of Management and Budget (OMB) and were approved and assigned OMB control number 0925-0001. Information collection requirements requested on PHS Form 5161-1 were approved and issued under OMB Circular A-102.

C. Legend

Unless disclosure is required by the Freedom of Information Act as amended (5 U.S.C. 552) as determined by the freedom of information officials of DHHS or by a court, data contained in the portions of this application that have been specifically identified by page number, paragraph, etc., by the applicant as containing restricted information shall not be used or disclosed except for evaluation purposes.

Dated: May 31, 2002.
Margaret M. Dotzel,
Associate Commissioner for Policy.

[FR Doc. 02-14101 Filed 6-4-02; 8:45 am]

BILLING CODE 4160-01-S